DEPARTMENT OF TRANSPORTATION

Federal Railroad Administration

Petition for Waiver of Compliance

In accordance with Part 229 of Title 49 Code of Federal Regulations (CFR), notice is hereby given that the Federal Railroad Administration (FRA) received a request for a waiver of compliance with certain requirements of its Railroad Locomotive Safety Standards. The individual petition is described below, including the party seeking relief, the regulatory provisions involved, the nature of the relief being requested, and the petitioner's arguments in favor of relief.

(WATCO Companies, Inc.)

[Docket Number FRA-2007-27969]

The WATCO Companies, Inc. (WATCO) seeks a waiver to comply with the requirements in 49 CFR 229.137(b)(iv), which would allow the toilets to be removed from those newly acquired locomotives, which came equipped with sanitation compartments. The total number of these newly acquired locomotives is 53, which were purchased from the after market and only a portion of these locomotives contained sanitation compartments. These locomotives have now been disbursed around the WATCO railroads mixed in with the existing locomotives that are not equipped with sanitation compartments.

WATCO is comprised of the following railroads: Alabama Southern Railroad, Arkansas Southern Railroad, Eastern Idaho Railroad, Great Northern Railroad, Kansas and Oklahoma Railroad, Louisiana Southern Railroad, Mission Mountain Railroad, Mississippi Southern Railroad, Palouse River and Coulee City Railroad, Southern Kansas and Oklahoma Railroad, Stillwater Central Railroad, Timber Rock Railroad, and Yellowstone Valley Railroad. WATCO claims that all these component railroads have active and accessible outside-of-the-locomotive sanitation plans in place for the employees per § 229.137(b)(iv). WATCO further claims that this would bring uniformity to operations as well as reduce their exposure to the added cost and local environmental compliance for supporting the servicing of the locomotives equipped with toilets.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-27969) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on January 4, 2008.
Grady C. Cothen, Jr.,
Deputy Associate Administrator for Safety Standards and Program Development.

[FR Doc. E8-308 Filed 1-10-08; 8:45 am]

BILLING CODE 4910-06-P